FEDERAL RETIREMENT THRIFT INVESTMENT BOARD

Sunshine Act Meeting

Time and Date: 9 a.m. (EDT), September 19, 2005.

Place: 4th Floor Conference Room, 1250 H Street, NW., Washington, DC.

Status: Telephonic—parts will be open to the public and parts closed to the public.

Matters to be Considered:

Parts Open to the Public

1. Approval of the minutes of the August 15, 2005, Board member meeting.

2. Thrift Savings Plan activity report by the Executive Director.

3. FY 2005 expenditures, proposed FY 2006 budget, and FY 2006 estimate.

Parts Closed to the Public

4. Procurement matters.

Contact Person for More Information: Thomas J. Trabucco, Director, Office of External Affairs, (202) 942-1640.

Dated: September 8, 2005.
Elizabeth S. Woodruff,
Secretary to the Board, Federal Retirement Thrift Investment Board.

[FR Doc. 05-18185 Filed 9-8-05; 4:40 pm]

BILLING CODE 6760-01-P